NATIONAL AERONAUTICS AND SPACE ADMINISTRATION

[Notice (17-015)]

Notice of Intent To Grant an Exclusive License

AGENCY: National Aeronautics and Space Administration.

ACTION: Notice of intent to grant an exclusive license.

SUMMARY: NASA hereby gives notice of its intent to grant an exclusive license in the United States to practice the invention described and claimed in U.S Non-Provisional Patent Application Serial No. 13/757,929, entitled “MULTI-Gb/s LASER COMMUNICATIONS TERMINAL FOR MINI-SPACECRAFT,” NASA Case No. NPO-48413, and any issued patents or continuations in part resulting therefrom, to OnOffBlock, Inc., having its principal place of business in Naperville, Illinois.

DATES: The prospective exclusive license may be granted unless, within fifteen (15) days from the date of this published notice, NASA receives written objections including evidence and argument that establish that the grant of the license would not be consistent with the requirements regarding the licensing of federally owned inventions as set forth in the Bayh-Dole Act and implementing regulations. Competing applications completed and received by NASA within fifteen (15) days of the date of this published notice will also be treated as objections to the grant of the contemplated exclusive license. Objections submitted in response to this notice will not be made available to the public for inspection and, to the extent permitted by law, will not be released under the Freedom of Information Act.

ADDRESSES: Objections relating to the prospective license may be submitted to Patent Counsel, NASA Management Office, Jet Propulsion Laboratory, 4800 Oak Grove Drive, M/S 180-800C, Pasadena, CA 91109, (818) 854-7770 (phone), (818) 393-2607 (fax).

FOR FURTHER INFORMATION CONTACT: Mark Homer, Patent Counsel, NASA Management Office, Jet Propulsion Laboratory, 4800 Oak Grove Drive, M/S 180-800C, Pasadena, CA 91109, (818) 854-7770 (phone), (818) 393-2607 (fax).

SUPPLEMENTARY INFORMATION: This notice of intent to grant an exclusive patent license is issued in accordance with 35 U.S.C. 209(c)(1) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark P. Dvorscak,
Agency Counsel for Intellectual Property.

[FR Doc. 2017-06122 Filed 3-27-17; 8:45 am]

BILLING CODE 7510-13-P